DEPARTMENT OF COMMERCE

National Oceanic and Atmospheric Administration

[I.D. 032503B]

Endangered Species; File No. 1429

AGENCY: National Marine Fisheries Service (NMFS), National Oceanic and Atmospheric Administration (NOAA), Commerce.

ACTION: Receipt of application.

SUMMARY: Notice is hereby given that the Southeast Fisheries Science Center, National Marine Fisheries Service, 75 Virginia Beach Drive, Miami, FL 33149, has applied in due form for a permit to take loggerhead (Caretta caretta), leatherback (Dermochelys coriacea), green (Chelonia mydas), Kemp's ridley (Lepidochelys kempii), hawksbill (Eretmochelys imbricata), and olive ridley (Lepidochelys olivacea) sea turtles for purposes of scientific research.

DATES: Written or telefaxed comments must be received on or before May 1, 2003.

ADDRESSES: The application and related documents are available for review upon written request or by appointment in the following office(s):

Southeast Region, NMFS, 9721 Executive Center Drive North, St. Petersburg, FL 33702-2432; phone (727)570-5301; fax (727)570-5320; and

Permits,Conservation and Education Division, Office of Protected Resources, NMFS, 1315 East-West Highway, Room 13705, Silver Spring, MD 20910; phone (301)713-2289; fax (301)713-0376;

Northeast Region, NMFS, One Blackburn Drive, Gloucester, MA 01930-2298; phone (978)281-9328; fax (978)281-9371.

FOR FURTHER INFORMATION CONTACT: Patrick Opay (301) 713-1401, or Carrie Hubard (301) 713-2289.

SUPPLEMENTARY INFORMATION: The subject permit is requested under the authority of the Endangered Species Act of 1973, as amended (ESA; 16 U.S.C. 1531 et seq.) and the regulations governing the taking, importing, and exporting of endangered and threatened species (50 CFR 222-226).

The applicant proposes to conduct sea turtle bycatch reduction research in the pelagic longline fishery of the western north Atlantic Ocean. The researchers propose to work cooperatively with U.S. pelagic longline fishermen in the Northeast Distant area (NED) to conduct fishery-dependent testing. The purpose of the research is to develop and test methods to reduce bycatch that occurs incidental to commercial, pelagic longline fishing. The goal is to develop a means to reduce turtle take and retain viable fishing performance that may be adopted by the U.S. pelagic longline fleet as an alternative to more restrictive sea turtle protection measures, such as closures. The technologies developed through this research are expected to be transferrable to other nations' fleets as well, so this work will address the larger problem of sea turtle bycatch by pelagic longlines throughout the entire Atlantic Ocean and in other regions where sea turtle bycatch is a concern. The research will also attempt to determine the feasibility of using pop-up satellite tags to study the post-hooking survival of turtles impacted by the fishery.

Sea turtles are expected to be taken as they entangle in and/or are hooked by the longline gear deployed in this experiment. An additional 15 free-swimming loggerhead turtles may be dipnetted from the surface. The applicant proposes to take 217 loggerheads (202 to be taken by the experimental fishery and 15 dipnetted from the surface), 160 leatherbacks, 2 green turtles, 2 hawksbills, 2 olive ridleys, 2 Kemp's ridleys, and 2 unidentified hardshell species. The applicant is requesting authorized mortalities of 2 loggerheads, 2 leatherbacks, as well as 1 green, Kemp's ridley, olive ridley, hawksbill, or unidentified hardshell in aggregate. All takes will occur in the NED of the Atlantic Ocean. The applicant is requesting a 1-year permit.

Written comments or requests for a public hearing on this application should be mailed to the Chief, Permits, Conservation and Education Division, F/PR1, Office of Protected Resources, NMFS, 1315 East-West Highway, Room 13705, Silver Spring, MD 20910. Those individuals requesting a hearing should set forth the specific reasons why a hearing on this particular request would be appropriate.

Comments may also be submitted by facsimile at (301)713-0376, provided the facsimile is confirmed by hard copy submitted by mail and postmarked no later than the closing date of the comment period. Please note that comments will not be accepted by e-mail or by other electronic media.

Dated: March 26, 2003.
Stephen L. Leathery,
Chief, Permits, Conservation and Education Division, Office of Protected Resources, National Marine Fisheries Service.

[FR Doc. 03-7784 Filed 3-31-03; 8:45 am]

BILLING CODE 3510-22-S